DEPARTMENT OF JUSTICE

Office of Justice Programs

[OJP (NIJ) Docket No. 1638]

Body-Worn Cameras for Criminal Justice Applications

AGENCY: National Institute of Justice, DOJ.

ACTION: Notice of request for information.

SUMMARY: The National Institute of Justice (NIJ) is soliciting information on commercially available body-worn cameras (BWCs) marketed for use by criminal justice and law enforcement agencies. These products are also sometimes called officer-worn or wearable cameras. The use of BWCs by criminal justice practitioners (e.g., patrol, corrections, SWAT and other tactical responders) offers potential advantages in keeping officers safe, enabling situational awareness, improving community relations and accountability, and providing evidence for trial. The NIJ Sensor, Surveillance and Biometric Technologies Center of Excellence (SSBT CoE) intends to update and revise the 2011 market survey reference, Body Worn Camera Information Sheet (http://goo.gl/rSWrcV).

Information Sought: The NIJ SSBJ CoE seeks input on its Body Worn Camera Information Sheet, which the CoE intends to update. Vendors who respond to this request for information are invited to provide general comments with regard to the BWC Information Sheet for the SSBT CoE to consider, including which categories of information are appropriate for comparison. Vendors are also invited to provide suggestions for specific updates or additions to the vendor-provided content on the BWC Information Sheet comparison chart (available at http://goo.gl/rSWrcV). The NIJ SSBJ CoE intends to include, at a minimum, the following categories of information for each BWC model:

1. Model Number and Name of the BWC.

2. Where the BWC is Mounted (e.g., Head, Chest, Glasses, Helmet, Various).

3. Maximum Video Resolution of the BWC (e.g., 640x480, 1080p).

4. Recording Speed of the BWC (e.g., 30 fps).

5. Recording Format of the BWC (e.g., MPEG-4, MOV).

6. Whether the BWC captures Still Photos.

7. Whether the BWC embeds a Time/Date Stamp in the recorded video.

8. The Field of View of the BWC (e.g., 75°, 120°).

9. The Lux Rating of the BWC.

10. Whether the BWC has a Night Mode and in what format (e.g., Low Light, IR Lens, etc.).

11. Whether the BWC has a Playback Screen for in-person video viewing.

12. The Audio Format of the BWC (e.g., MP2, AAC).

13. Whether the BWC contains Video Safeguards that limit access or editing by users.

14. Whether the BWC has a Pre-Event Record feature. (And, if so, the buffered time and whether the recording includes audio.)

15. Whether the BWC possess an Event Marking capability.

16. The Recording Life of the BWC battery.

17. The Standby duration of the BWC battery.

18. The Charge Time of the BWC battery (use N/A for disposable batteries only).

19. The Battery Type used by the BWC and whether it is internal or removable (e.g., Li-Ion, AAA, Proprietary).

20. The onboard memory Storage capacity of the BWC.

21. The Recording Time of the BWC under default resolution settings.

22. Whether the BWC possesses a GPS, and if so whether that information is embedded in recorded video.

23. The physical Dimensions (in inches) of the BWC (camera, control unit, and/or battery).

24. The Weight of the BWC and all accessories worn by a user.

25. Whether the BWC has undergone Environment Testing, and if so what standard it passed.

26. Whether a Warranty comes standard with the BWC unit, and what type.

27. Whether Video Software is available for video management of the BWC recordings, and if so whether it is required to use the BWC.

28. Whether there is a default Police Radio Interface for the BWC.

29. Whether the BWC is Vehicle Mountable for dashboard applications.

30. The Manufacturer Suggested Retail Price (MSRP) for the BWC.

31. Whether the BWC has Wireless capabilities to communicate with a computer or external DVR unit.

32. Any Other information or notes that are relevant to the BWC.

If a vendor wishes to submit information on a BWC model or models, the CoE would prefer that a separate set of responses be submitted for each BWC model for which information is being provided. Only BWC products that are commercially available for general purchase in the United States as of January 21, 2014 will be considered for inclusion in the Information Sheet. It is recommended that the responses follow the information numbering included above for ease of reference.

DATES: Responses to this request will be accepted through 11:59 p.m. Eastern Time on January 21, 2014.

ADDRESSES: Responses to this request may be submitted electronically in the body of or as an attachment to an email sent to ssbtcoe@mantech.com with the recommended subject line “BWC Federal Register Response”. Questions and responses may also be sent by mail (please allow additional time for processing) to the address: NLECTC Sensor, Surveillance and Biometric Technologies Center of Excellence, ManTech International Corporation, ATTN: BWC Federal Register Response, 1000 Technology Dr. Ste 2310, Fairmont, WV 26554.

FOR FURTHER INFORMATION CONTACT: For more information on this request for information contact Lars Ericson (SSBT CoE) at (304) 368-4216 or lars.ericson@mantech.com. For more information on the NIJ SSBT CoE, visit https://www.justnet.org/our_centers/COEs/sensor-tce.html or contact Mark Greene (NIJ Office of Science and Technology) at (202) 307-3384 or mark.greene2@usdoj.gov. Please note that these are not toll-free telephone numbers.

Gregory K. Ridgeway,
Acting Director, National Institute of Justice.

[FR Doc. 2013-30246 Filed 12-18-13; 8:45 am]

BILLING CODE 4410-18-P